DEPARTMENT OF TRANSPORTATION

Federal Highway Administration

[Docket No. FHWA-2016-0015]

Emergency Route Working Group (ERWG)—Federal Advisory Committee

AGENCY: Federal Highway Administration (FHWA), DOT.

ACTION: Notice of Establishment of the Emergency Route Working Group; Request for Nominations.

SUMMARY: FHWA announces the establishment of the Emergency Route Working Group (ERWG) for a 2-year period. The ERWG will provide the U.S. Secretary of Transportation, through the Administrator of the FHWA, with advice and recommendations for the implementation of best practices for expeditious State approval of special permits for vehicles involved in emergency response and recovery. The ERWG will provide the U.S. Secretary of Transportation a written report by December 4, 2016, on its findings and recommendation for the implementation of best practices for expeditious State approval of special permits for vehicles involved in emergency response and recovery. The ERWG's advice and recommendations will work within existing legal authorities and not require changes in State or Federal law for DOT to implement.

DATES: The deadline for nominations for ERWG members must be received on or before September 23, 2016.

ADDRESSES: All nomination materials should be emailed to erwg@dot.gov or faxed to the attention of Crystal Jones at (202) 366-3225, or mailed to Crystal Jones, Federal Highway Administration, Office of Freight Management and Operations, Room E84-314, 1200 New Jersey Avenue SE., Washington, DC 20590. Any person needing accessibility accommodations should contact Crystal Jones at (202) 366-2976.

FOR FURTHER INFORMATION CONTACT: Crystal Jones, U.S. Department of Transportation, Federal Highway Administration, Room E84-314, 1200 New Jersey Avenue SE., Washington, DC 20590. Any person needing accessibility accommodations should contact Crystal Jones at (202) 366-2976; email: erwgt@dot.gov.

SUPPLEMENTARY INFORMATION: Section 5502 of the Fixing America's Surface Transportation (FAST) Act (P.L. 114-94, 129 Stat. 1312) requires the Secretary of Transportation to establish a working group to determine best practices for expeditious State approval of special permits for vehicles involved in emergency response and recovery. Pursuant to Section 9(a)(2) of the Federal Advisory Committee Act (FACA), and in accordance with 41 CFR 102-3.65, and following consultation with the Committee Management Secretariat, General Services Administration, notice is hereby given that the ERWG will be established for up to a 2-year period. The ERWG will provide the U.S. Secretary of Transportation, through the Administrator of the FHWA, with advice and recommendations for the implementation of best practices for expeditious State approval of special permits for vehicles involved in emergency response and recovery. The ERWG will provide the U.S. Secretary of Transportation a written report by December 4, 2016, on its findings and recommendations. The ERWG's advice and recommendations will work within existing legal authorities and not require changes in State or Federal law for DOT to implement.

The Department of Transportation is hereby soliciting nominations for members of the ERWG. The Federal Highway Administrator, on behalf of the Secretary of Transportation, will appoint up to 25 ERWG members. The ERWG members selected will provide views and perspective on whether:

a. impediments currently exist that prevent expeditious State approval of special permits for vehicles involved in emergency response and recovery;

b. it is possible to pre-identify and establish emergency routes between States through which infrastructure repair materials could be delivered following a natural disaster or emergency;

c. a State could pre-designate an emergency route identified under paragraph (b) as a certified emergency route if a motor vehicle that exceeds the otherwise applicable Federal and State truck length or width limits may safely operate along such route during periods of declared emergency and recovery from such periods; and

d. an online map could be created to identify each pre-designated emergency route under paragraph (c), including information on specific limitations, obligations, and notification requirements along that route.

The ERWG membership will seek to balance the following interests to the extent practicable; but as required by law the membership shall include representatives from State highway transportation departments or agencies; relevant modal agencies within the DOT; emergency response or recovery experts; relevant safety groups; and entities affected by special permit restrictions during emergency response and recovery efforts. The ERGW members serve at the pleasure of the Secretary, but may serve for a term of 2 years or less. The Chair and Vice Chair of the ERWG will be appointed by the FHWA Administrator from among the selected members, and the ERWG is expected to meet 12 times before the termination, which is defined in law as 1 year after the group delivers the report to the Secretary of Transportation required under Section 5502(c) of the FAST Act. Subcommittees may be formed to address specific emergency route issues. Some ERWG members may be appointed as special Government employees and will be subject to certain ethical restrictions, and such members will be required to submit certain information in connection with the appointment process. With the exception of travel and per diem for official travel, members will serve without compensation.

Process and Deadline for Submitting Nominations: Qualified individuals can self-nominate or be nominated by any individual or organization. To be considered for the ERWG, nominators should submit the following information:

(1) Name, title, and relevant contact information (including phone, fax, and email address) of the individual requesting consideration;

(2) A letter of support from a company, union, trade association, or non-profit organization on letterhead containing a brief description why the nominee should be considered for membership;

(3) Short biography of nominee including professional and academic credentials;

(4) An affirmative statement that the nominee is not a federally registered lobbyist, and that the nominee understands that if appointed, the nominee will not be allowed to continue to serve as a ERWG member if the nominee becomes a federally registered lobbyist;

(5) An affirmative statement that the nominee meets all ERWG eligibility requirements.

Please do not send company, trade association, or organization brochures or any other information. Materials submitted should total two pages or less. Should more information be needed, DOT staff will contact the nominee, obtain information from the nominee's past affiliations, or obtain information from publicly available sources, such as the Internet.

Nominations may be emailed to erwg@dot.gov or faxed to the attention of Crystal Jones at (202) 366-2976, or mailed to Crystal Jones, Federal Highway Administration, Office of Freight Management and Operations, Room E84-314, 1200 New Jersey Avenue SE., Washington, DC 20590. Nominations must be received before September 23, 2016. Nominees selected for appointment to the ERWG will be notified by return email and by a letter of appointment.

A selection team comprising representatives from several DOT offices will review the nomination packages. The selection team will make recommendations regarding membership to the Secretary of Transportation through the Federal Highway Administrator based on criteria including (1) professional or academic expertise, experience, and knowledge; (2) stakeholder representation; (3) availability and willingness to serve; and (4) skills working in committees and advisory panels. The Federal Highway Administrator will submit a list of recommended candidates to the Secretary of Transportation for review and selection of ERWG members.

Nominations are open to all individuals without regard to race, color, religion, sex, national origin, age, mental or physical handicap, marital status, or sexual orientation. To ensure that recommendations to the Secretary take into account the needs of the diverse groups served by DOT, membership shall include, to the extent practicable, individuals with demonstrated ability to represent minorities, women, and persons with disabilities.

Issued in Washington, DC, on August 15, 2016.
Gregory G. Nadeau,
Administrator, Federal Highway Administration.

[FR Doc. 2016-20233 Filed 8-23-16; 8:45 am]

BILLING CODE 4910-22-P